COMMITTEE FOR PURCHASE FROM PEOPLE WHO ARE BLIND OR SEVERELY DISABLED

Procurement List; Proposed Addition and Deletions

AGENCY: Committee for Purchase From People Who Are Blind or Severely Disabled.

ACTION: Proposed addition to and deletions from the Procurement List.

SUMMARY: The Committee is proposing to add a product to the Procurement List that will be furnished by a nonprofit agency employing persons who are blind or have other severe disabilities, and deletes services previously provided by such agencies.

DATES: Comments Must Be Received On or Before: 11/25/2013.

ADDRESSES: Committee for Purchase From People Who Are Blind or Severely Disabled, 1401 S. Clark Street, Suite 10800, Arlington, Virginia 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Addition

If the Committee approves the proposed addition, the entity of the Federal Government identified in this notice will be required to procure the product listed below from the nonprofit agency employing persons who are blind or have other severe disabilities.

The following product is proposed for addition to the Procurement List for production by the nonprofit agency listed:

Product

NSN: 7520-00-NIB-2197—Stapler, Economy, Metal-bodied, Spring-powered, 20-Sheet Capacity

NPA: Winston-Salem Industries for the Blind, Inc., Winston-Salem, NC

Contracting Activity: GENERAL SERVICES ADMINISTRATION, NEW YORK, NY

Coverage: A-List for the Total Government Requirement as aggregated by the General Services Administration.

Deletions

The following product and services are proposed for deletion from the Procurement List:

Product

Envelope Case, Map and Photograph

NSN: 8460-01-113-7576

NPA: UNKNOWN

Contracting Activity: DEFENSE LOGISTICS AGENCY TROOP SUPPORT, PHILADELPHIA, PA

Services

Service Type/Location: Food Service Attendant Service, Oregon Air National Guard: Camp Rilea National Guard Training Site, Building 7028, Warrenton, OR

NPA: Clatsop County Developmental Training Center Association, Warrenton, OR

Contracting Activity: DEPT OF THE AIR FORCE, FA7014 AFDW PK, ANDREWS AIR FORCE BASE, MD

Service Type/Location: Grounds Maintenance Service, U.S. Army Reserve Center: San Jose, San Jose, CA

NPA: Social Vocational Services, Inc.—Deleted, San Jose, CA

Contracting Activity: DEPT OF THE ARMY, W40M NATL REGION CONTRACT OFC, FORT BELVOIR, VA

Service Type/Location: Integrated Prime Vendor, Supply Chain Management Service (inventory control, obsolescence identification, engineering support and some material procurement services), U.S. Navy, Naval Surface Warfare Center, 300 Highway 361, Crane, IN

NPA: Knox County Association for Retarded Citizens, Inc., Vincennes, IN

Contracting Activity: DEPT OF THE NAVY, NSWC CRANE, CRANE, IN

Service Type/Location: Integrated Prime Vendor Supply Chain Management Service (to support production, assembly, receipt, storage, packaging, preservation, delivery and related products/services for Expeditionary Force Provider (EFP) Modules and Modification System Cold Weather), US Army, Product Manager Force Sustainment Systems, Natick, MA

NPA: ReadyOne Industries (ROI), Inc., El Paso, TX

Contracting Activity: DEPT OF THE ARMY, W6QK ACC-APG NATICK, NATICK, MA

Barry S. Lineback,
Director, Business Operations.

[FR Doc. 2013-25162 Filed 10-24-13; 8:45 am]

BILLING CODE 6353-01-P